NUCLEAR REGULATORY COMMISSION

Call for Nominations

SUMMARY: The U.S. Nuclear Regulatory Commission (NRC) is advertising for nominations for the position of Interventional Cardiology Physician on the Advisory Committee on the Medical Uses of Isotopes (ACMUI).

DATES: Nominations are due on or before March 8, 2004.

ADDRESSES: Submit four copies of the nominee's resume to the Office of Human Resources, Attn: Ms. Joyce Riner, Mail Stop T2D32, U.S. Nuclear Regulatory Commission, Washington, DC 20555.

FOR FURTHER INFORMATION CONTACT: Angela R. Williamson, Office of Nuclear Material Safety and Safeguards, U.S. Nuclear Regulatory Commission, Washington, DC 20555. Telephone (301) 415-5030; e-mail: arw@nrc.gov.

SUPPLEMENTARY INFORMATION: The ACMUI advises NRC on policy and technical issues regarding the regulation of the medical use of byproduct material. Responsibilities include providing comments on changes to NRC rules, regulations, and guidance documents; evaluating certain non-routine uses of byproduct material; providing technical assistance in licensing, inspection, and enforcement cases; providing consulting services when necessary; and bringing key issues to the attention of NRC for appropriate action. ACMUI members possess the medical and technical skills needed to address evolving issues. The current membership is comprised of the following professionals: (a) Nuclear medicine physician; (b) nuclear cardiologist; (c) medical physicist in nuclear medicine, unsealed byproduct material; (d) therapy physicist; (e) radiation safety officer; (f) nuclear pharmacist; (g) two radiation oncologists; (h) patients' rights advocate; (i) Food and Drug Administration representative; (j) State government representative; and (k) health care administrator. NRC is inviting nominations for an interventional cardiologist physician to the ACMUI. Nominees should be interventional cardiologist physicians with experience in intravascular brachytherapy use of radiation sources. Committee members serve a 3-year term, with possible reappointment to an additional 3-year term. Nominees must be U.S. citizens and be able to devote approximately 80 hours per year to committee business. Members who are not Federal employees are compensated for their service. In addition, members are reimbursed travel expenses (including per diem, in lieu of subsistence); and are also reimbursed secretarial and correspondence expenses. Members who are full-time Federal employees are reimbursed travel expenses only. Nominees will undergo a security background check and will be required to complete financial disclosure statements, to avoid conflict-of-interest issues.

Dated: December 3, 2003.
Andrew L. Bates,
Advisory Committee Management Officer.

[FR Doc. 03-30468 Filed 12-8-03; 8:45 am]

BILLING CODE 7590-01-P